DEPARTMENT OF COMMERCE

Foreign-Trade Zones Board

[B-33-2023]

Foreign-Trade Zone 98; Application for Expansion of Subzone 98A; Mercedes-Benz U.S. International, Inc.; Moundville, Vance and Woodstock, Alabama

An application has been submitted to the Foreign-Trade Zones (FTZ) Board by the City of Birmingham, grantee of FTZ 98, requesting expanded subzone status for the facilities of Mercedes-Benz U.S. International, Inc., located in Moundville, Vance and Woodstock, Alabama. The application was submitted pursuant to the provisions of the Foreign-Trade Zones Act, as amended (19 U.S.C. 81a-81u), and the regulations of the FTZ Board (15 CFR part 400). It was formally docketed on May 22, 2023.

The application requests authority to expand Subzone 98A to include the following new sites: Site 4 (89 acres) 12068 Upper Hull Road, Moundville; Site 5 (55 acres) 11549 Will Walker Road, Vance; Site 6 (296 acres) 933 Scott G. Davis Parkway, Woodstock; Site 7 (185 acres) 17710 Vance Municipal Drive, Vance; and, Site 8 (5 acres) 10077 Brose Drive, Vance. No authorization for additional production activity has been requested at this time.

In accordance with the FTZ Board's regulations, Christopher Kemp of the FTZ Staff is designated examiner to review the application and make recommendations to the FTZ Board.

Public comment is invited from interested parties. Submissions shall be addressed to the FTZ Board's Executive Secretary and sent to: ftz@trade.gov. The closing period for their receipt is July 5, 2023. Rebuttal comments in response to material submitted during the foregoing period may be submitted during the subsequent 15-day period to July 20, 2023.

A copy of the application will be available for public inspection in the “Online FTZ Information Section” section of the FTZ Board's website, which is accessible via www.trade.gov/ftz.

For further information, contact Christopher Kemp at Christopher.Kemp@trade.gov.

Dated: May 23, 2023.
Camille R. Evans,
Acting Executive Secretary.

[FR Doc. 2023-11259 Filed 5-25-23; 8:45 am]

BILLING CODE 3510-DS-P